DEPARTMENT OF DEFENSE

Office of the Secretary; Conference Meeting of the United States Strategic Command, Strategic Advisory Group

AGENCY: Department of Defense.

ACTION: Notice of closed meeting.

SUMMARY: The United States Strategic Command (USSTRATCOM) Strategic Advisory Group (SAG) will meet in closed session on April 18 and 19, 2002.

The mission of the SAG is to provide timely advice on scientific, technical, intelligence, and policy-related issues to the Commander-in-Chief, U.S. Strategic Command. The purpose of this meeting it to discuss strategic issues that relate to the development of the Single Integrated Operational Plan.

The meeting will involve classified information and access must be strictly limited to personnel having requisite clearances and specific need-to-know. In accordance with section 10(d) of the Federal Advisory Committee Act (5 USC, App. 2), the meeting will be closed to the public.

DATES: April 18 and 19, 2002.

ADDRESSES: U.S. Strategic Command, 901 SAC Boulevard, Suite 1F7, Offutt Air Force Base, NE 68113-6030.

FOR FURTHER INFORMATION CONTACT: Ms. Connie Druskis, USSTRATCOM SAG, (402) 294-4102.

Dated: March 22, 2002.
Patricia L. Toppings,
Alternate OSD Federal Register Liaison Officer, Department of Defense.

[FR Doc. 02-7390 Filed 3-27-02; 8:45 am]

BILLING CODE 5001-08-M